DEPARTMENT OF THE INTERIOR

Bureau of Land Management

[LLCAC08000-L1430000-ET0000; CACA 41334]

Public Land Order No. 7746; Withdrawal of Public Lands, South Fork of the American River; California

AGENCY: Bureau of Land Management, Interior.

ACTION: Public Land Order.

SUMMARY: This order withdraws 2,238.49 acres of public lands from location and entry under the United States mining laws for the Bureau of Land Management to protect the unique natural, scenic, cultural, and recreational values along the South Fork of the American River.

DATES: Effective Date: July 15, 2010.

ADDRESSES: Field Manager, BLM Mother Lode Field Office, 5152 Hillsdale Circle, El Dorado Hills, California 95762.

FOR FURTHER INFORMATION CONTACT: Jodi Lawson, BLM Mother Lode Field Office, 916-941-3101, or Dan Ryan, BLM California State Office, 916-978-4677.

SUPPLEMENTARY INFORMATION: The Bureau of Land Management will manage the lands to protect the unique natural, scenic, cultural, and recreational values along the South Fork of the American River.

Order

By virtue of the authority vested in the Secretary of the Interior by Section 204 of the Federal Land Policy and Management Act of 1976, 43 U.S.C. 1714, it is ordered as follows:

1. Subject to valid existing rights, the following described public lands are hereby withdrawn from location and entry under the United States mining laws (30 U.S.C. Ch. 2) for the Bureau of Land Management to protect the unique natural, scenic, cultural, and recreational values along the South Fork of the American River:

Mount Diablo Meridian

T. 11 N., R. 9 E.,

Sec. 10, NW¼NW¼ and S½;

Sec. 12, lots 1 to 9 inclusive, NW¼SE¼NW¼, and NW¼NE¼SE¼;

Sec. 20, NE¼SW¼, N½SE¼, and SE¼SE¼;

Sec. 28, SW ¼, NW¼ excluding Mineral Survey 5163, W½ SW¼, and SE¼ SW¼;

Sec. 30, lots 1 to 4 inclusive, SW¼NE¼, SE¼NW¼, E½,SW¼, and SE¼;

Sec. 32, N½NE¼, SW¼NE¼, W½, and S½SE¼.

T. 11 N., R. 10 E.,

Sec. 18, lots 5, 6, and 7, and NW¼NE¼NW¼;

Sec. 22, NW¼SE¼SW¼, and that portion of the E½, NW¼, excluding lots 1, 4, and 5;

Sec. 26, SW¼.

The areas described aggregate 2,238.49 acres, more or less, in El Dorado County.

2. The withdrawal made by this order does not alter the applicability of the public land laws other than under the mining laws.

3. This withdrawal will expire on December 15, 2049, unless as a result of a review conducted before the expiration date pursuant to Section 204(f) of the Federal Land Policy and Management Act of 1976, 43 U.S.C. 1714(f), the Secretary determines that the withdrawal shall be extended.

Dated: June 30, 2010.
Wilma A. Lewis,
Assistant Secretary—Land and Minerals Management.

[FR Doc. 2010-17233 Filed 7-14-10; 8:45 am]

BILLING CODE 4310-40-P